ENVIRONMENTAL PROTECTION AGENCY

[FRL-7416-1]

Intent to Grant an Exclusive Patent License

AGENCY: Environmental Protection Agency (EPA).

ACTION: Notice of Intent to Grant an Exclusive Patent License.

SUMMARY: Pursuant to 35 U.S.C. 207 and 37 CFR Part 404, EPA hereby gives notice of its intent to grant an exclusive, royalty-bearing, revocable license to practice the inventions described and claimed in the patents listed below, all corresponding patents issued throughout the world, and all reexamined patents and reissued patents granted in connection with such patents, to BHA Group, Inc., Kansas City, Missouri. The patents are:

U.S. Patent No. 5,217,511 (’511 patent), entitled “Enhancement of Electrostatic Precipitation with Electrostatically Augmented Fabric Filtration,” issued June 8, 1993.

U.S. Patent No. 6,152,988 (’988 patent), entitled “Enhancement of Electrostatic Precipitation with Precharged Particles and Electrostatically Augmented Fabric Filtration,” issued November 28, 2000.

The ’511 patent was announced as being available for licensing in the March 9, 1992 issue of the Federal Register (57 FR 8330) as U.S. Patent Application No. 07/826,302, filed January 24, 1992. The ’988 patent has not been previously announced as being available for licensing. However, EPA has the authority under 37 CFR 404.7(a)(1) to proceed without a notice of availability when expeditious granting of the license will best serve the interests of the Federal government and the public. Under that authority, EPA has decided not to issue a notice of availability for the ’988 patent because a notice had been published for the associated technology embodied in the ’511 patent and because the only applicant, BHA Group, Inc., has filed an application for an exclusive license under 37 CFR 404.8 and is prepared to enter into an exclusive license agreement. Therefore, expeditious granting of the license is in the public's interest because the products will be brought to market sooner. Expeditious granting of the license is also in the Federal government's interest because the royalty income generated can be more quickly used for the purposes permitted under the Federal Technology Transfer Act.

The proposed exclusive license will contain appropriate terms, limitations, and conditions to be negotiated in accordance with 35 U.S.C. 209 and 37 CFR 404.5 and 404.7 of the U.S. Government patent licensing regulations.

EPA will negotiate the final terms and conditions and grant the exclusive license, unless within 15 days from the date of this notice EPA receives, at the address below, written objections to the grant, together with supporting documentation. The documentation from objecting parties having an interest in practicing the above patents should include an application for an exclusive or nonexclusive license with the information set forth in 37 CFR 404.8. The EPA Patent Counsel and other EPA officials will review all written responses and then make recommendations on a final decision to the Director of the National Risk Management Research Laboratory, who has been delegated the authority to issue patent licenses under EPA Delegation 1-55.

DATE: Comments on this notice must be received by EPA at the address listed below by December 18, 2002.

FOR FURTHER INFORMATION CONTACT: Alan Ehrlich, Patent Counsel, Office of General Counsel (Mail Code 2377A), Environmental Protection Agency, Washington, DC 20460, Telephone (202) 564-5457.

Marla E. Diamond,
Associate General Counsel, Finance and Operations Law Office.

[FR Doc. 02-30601 Filed 12-2-02; 8:45 am]

BILLING CODE 6560-50-P